FEDERAL EMERGENCY MANAGEMENT AGENCY

Agency Information Collection Activities: Submission for OMB Review; Comment Request

ACTION: Notice and request for comments.

SUMMARY: The Federal Emergency Management Agency is submitting a request for review and approval of a collection of information under the emergency processing procedures in the Office of Management and Budget (OMB) regulation 5 CFR 1320.13. FEMA is requesting the collection be approved by September 17, 2001, for use through March 31, 2002.

SUPPLEMENTARY INFORMATION: Public Law (PL) 106-390 Disaster Mitigation Act of 2000 (Stafford Act Amendments), Section 308, requires the Director of the Federal Emergency Management Agency to conduct a study of participation by Indian tribes in emergency management and cost-sharing related activities.

Collection of Information

Title: Participation and Cost-Share Capability of Indian Tribes in Emergency Management Programs.

Type of Information Collection: New Collection.

Abstract. Pursuant to PL-106-390 Disaster Mitigation Act of 2000 (Stafford Act Amendments), Section 308, FEMA will collect data from Indian tribes to: (1) Measure their level of participation in emergency management related activities, and (2) review and assess their capacity to participate in and manage cost-shared emergency management programs. Findings will be reported to Congress as mandated by law.

Affected Public: State and Tribal Government Officials.

Estimated Total Annual Burden Hours. 414 Hours.

FY 2001 | No. of respondents (A) | Frequence of response (B) | House per response (C) | Annual burden hours (A × B × C)
Tribes | 650 | 1 | .5 | 325
States | 50 | 1 | .5 | 25
Total | 700 | 1 | .5 | * 414
* Includes 64 hours for pre-survey activities.

Estimated Cost. $83,530.00.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

ADDRESSES: Interested persons should submit written comments to the Office of Management and Budget, Office of Information and Regulatory Affairs, Attention: Desk Officer for the Federal Emergency Management Agency, 725 17th Street, NW., Washington, DC 20503.

FOR FURTHER INFORMATION CONTACT: Sylvia U. Correa, Surveys Manager, Federal Emergency Management Agency, (202) 646-4247 or e-mail at sylvia.correa@fema.gov. For copies of the proposed collection of information, contact Ms. Muriel Anderson at (202) 646-2625.

Dated: August 22, 2001.
Reginald Trujillo,
Chief, Program Services Branch, Facilities Management and Services Division, Administration and Resource Planning Directorate.

[FR Doc. 01-22101 Filed 8-31-01; 8:45 am]

BILLING CODE 6718-01-P